DEPARTMENT OF COMMERCE

International Trade Administration

[A-823-817]

Prestressed Concrete Steel Wire Strand From Ukraine: Preliminary Results of Antidumping Duty Administrative Review and Preliminary Intent To Rescind, in Part; 2020-2022

AGENCY: Enforcement and Compliance, International Trade Administration, Department of Commerce.

SUMMARY: The U.S. Department of Commerce (Commerce) is conducting an administrative review of the antidumping duty order on prestressed concrete steel wire strand (PC strand) from Ukraine. We preliminarily determine that PJSC Stalkanat (Stalkanat) did not make sales of subject merchandise at less than normal value during the period of review (POR) November 19, 2020, through May 31, 2022. Interested parties are invited to comment on these preliminary results.

DATES: Applicable July 14, 2023.

FOR FURTHER INFORMATION CONTACT: Laura Griffith, AD/CVD Operations, Office III, Enforcement and Compliance, International Trade Administration, U.S. Department of Commerce, 1401 Constitution Avenue NW, Washington, DC 20230; telephone: (202) 482-6430.

SUPPLEMENTARY INFORMATION:

Background

On August 9, 2022, Commerce initiated an administrative review of the antidumping duty order ¹ on PC strand from Ukraine covering the above-referenced POR.² On February 10, 2023, Commerce extended the deadline for issuing the preliminary results of this review to June 30, 2023.³ For a complete description of the events that followed the initiation of this review, see the Preliminary Decision Memorandum.⁴

¹ See Prestressed Concrete Steel Wire Strand from Indonesia, Italy, Malaysia, South Africa, Spain, Tunisia, and Ukraine: Antidumping Duty Orders, 86 FR 29998 (June 4, 2021) (Order).

² See Initiation of Antidumping and Countervailing Duty Administrative Reviews, 87 FR 48459 (August 9, 2022) (Initiation).

³ See Memorandum, “Extension of Deadline for Preliminary Results of 2020-2022 Antidumping Duty Administrative Review,” dated February 10, 2023.

⁴ See Memorandum, “Decision Memorandum for the Preliminary Results of the Antidumping Duty Administrative Review: Prestressed Concrete Steel Wire Strand from Ukraine; 2020-2022,” dated concurrently with, and hereby adopted by, this notice (Preliminary Decision Memorandum).

Scope of the Order

The products covered by this Order are prestressed concrete steel wire strand, produced from wire of non-stainless, non-galvanized steel, which is suitable for use in prestressed concrete (both pretensioned and post-tensioned) applications. The product definition encompasses covered and uncovered strand and all types, grades, and diameters of PC strand. For a full description of the scope of the Order, see the Preliminary Decision Memorandum.

Preliminary Results of Successor-in-Interest Analysis and Intent To Rescind Administrative Review, in Part

Commerce initiated this administrative review with respect to PJSC Stalkanat (Stalkanat) and PJSC PA Stalkanat-Silur (Stalkanat-Silur), the entity that participated in the original investigation. Stalkanat reported that it legally separated from Stalkanat-Silur and, subsequently, took over the business activities of Stalkanat-Silur in Odessa, Ukraine on January 1, 2022. We have analyzed record information regarding the management, manufacturing facilities, customers, and suppliers of Stalkanat-Silur and Stalkanat, and preliminarily determine that Stalkanat's operations are not materially dissimilar to those of Stalkanat-Silur prior to its legal separation. Thus, we preliminarily find that Stalkanat is the successor-in-interest to Stalkanat-Silur. See the Preliminary Decision Memorandum for further information. Accordingly, we are preliminarily rescinding the administrative review of Stalkanat-Silur.

Methodology

Commerce is conducting this review in accordance with section 751(a)(1)(B) of the Tariff Act of 1930, as amended (the Act). We calculated export prices for Stalkanat in accordance with section 772 of the Act. For a full description of the methodology underlying our decisions, see the Preliminary Decision Memorandum. See the appendix to this notice for a complete list of topics discussed in the Preliminary Decision Memorandum. The Preliminary Decision Memorandum is a public document and is on file electronically via Enforcement and Compliance's Antidumping and Countervailing Duty Centralized Electronic Service System (ACCESS). ACCESS is available to registered users at https://access.trade.gov. In addition, the Preliminary Decision Memorandum may be accessed directly at https://access.trade.gov/public/FRNoticesListLayout.aspx.

Preliminary Results of the Review

Commerce preliminarily determines that the following estimated weighted-average dumping margin exists during the period November 19, 2020, through May 31, 2022:

Producer and/or exporter | Weighted-average dumping margin (percent)
PJSC Stalkanat | 0.00

Disclosure and Public Comment

Commerce intends to disclose to interested parties the calculations performed for these preliminary results within five days of the date of publication of this notice in accordance with 19 CFR 351.224(b). Interested parties may comment on the preliminary results of this review by submitting case briefs to Commerce no later than 30 days after the date of publication of these preliminary results of review in the Federal Register.⁵ Rebuttal briefs, limited to issues raised in the case briefs, may be filed no later than seven days after the date for filing the applicable case briefs.⁶ Parties who submit case briefs or rebuttal briefs in this proceeding are encouraged to submit with each argument: (1) a statement of the issue; (2) a brief summary of the argument; and (3) a table of authorities.⁷ Note that Commerce has temporarily modified certain portions of its requirements for serving documents containing business proprietary information, until further notice.⁸

⁵ See 19 CFR 351.309(c)(1)(ii).

⁶ See 19 CFR 351.309(d).

⁷ See 19 CFR 351.309(c) and (d); see also 19 CFR 351.303 (for general filing requirements).

⁸ See Temporary Rule Modifying AD/CVD Service Requirements Due to COVID-19; Extension Effective Period, 85 FR 41363 (July 10, 2020) (Temporary Rule).

Pursuant to 19 CFR 351.310(c), interested parties who wish to request a hearing, limited to issues raised in the case and rebuttal briefs, must submit a written request to the Assistant Secretary for Enforcement and Compliance, U.S. Department of Commerce, filed electronically via ACCESS within 30 days of the date of publication of this notice. Requests should contain: (1) the party's name, address, and telephone number; (2) the number of participants; and (3) a list of the issues to be discussed. An electronically-filed hearing request must be received successfully in its entirety by ACCESS by 5:00 p.m. Eastern Time on the established deadline.

Commerce intends to issue the final results of this administrative review, including the results of its analysis of issues raised in the case briefs, no later than 120 days after the date of publication of this notice, pursuant to section 751(a)(3)(A) of the Act, unless otherwise extended.

Assessment Rates

Upon issuance of the final results of this administrative review, Commerce shall determine, and U.S. Customs and Border Protection (CBP) shall assess, antidumping duties on all appropriate entries associated with the U.S. sales covered by this review.⁹ If Stalkanat's weighted-average dumping margin is not zero or de minimis (i.e., less than 0.5 percent) in the final results of this review, we will calculate importer-specific assessment rates based on the ratio of the total amount of dumping calculated for the importer's examined sales to the total entered value of those same sales in accordance with 19 CFR 351.212(b)(1).

⁹ See 19 CFR 351.212(b).

Where an importer-specific ad valorem assessment rate is not zero or de minimis, we will instruct CBP to collect the appropriate duties at the time of liquidation. Where either Stalkanat's ad valorem weighted-average dumping margin is zero or de minimis, or an importer-specific ad valorem assessment rate is zero or de minimis,¹⁰ we will instruct CBP to liquidate the appropriate entries without regard to antidumping duties.

¹⁰ See 19 CFR 351.106(c)(2).

If Commerce calculates margins above de minimis in the final results of this review, we intend to instruct CBP to take into account the “provisional measures deposit cap,” in accordance with 19 CFR 351.212(d).

In accordance with Commerce's “automatic assessment” practice, for entries of subject merchandise during the POR, produced by Stalkanat, for which it did not know that the merchandise it sold was destined for the United States, we will instruct CBP to liquidate those entries at the all-others rate if there is no rate for the intermediate company(ies) involved in the transaction.¹¹

¹¹ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

The final results of this review shall be the basis for the assessment of antidumping duties on entries of merchandise associated with the U.S. sales covered by the final results of this review and for future deposits of estimated duties, where applicable.¹²

¹² See section 751(a)(2)(C) of the Act.

Cash Deposit Requirements

The following cash deposit requirements will be in effect for all shipments of subject merchandise entered, or withdrawn from warehouse, for consumption on or after the date of publication of the notice of the final results of this administrative review in the Federal Register, as provided for by section 751(a)(2)(C) of the Act: (1) the cash deposit rate for Stalkanat will be equal to the weighted-average dumping margin established in the final results of this review, except if the rate is less than 0.50 percent, and, therefore, de minimis within the meaning of 19 CFR 351.106(c)(1), in which case the cash deposit rate will be zero; (2) for previously reviewed or investigated companies not participating in this review, the cash deposit rate will continue to be the company-specific rate published for the most recently-completed segment of this proceeding in which the company was reviewed; (3) if the exporter is not a firm covered in this review or a previous segment of this proceeding, but the producer is, then the cash deposit rate will be the rate established in the most recently completed segment for the producer of the subject merchandise; and (4) the cash deposit rate for all other producers or exporters will continue to be 19.30 percent, the all-others rate established in the less-than-fair-value investigation.¹³

¹³ See Prestressed Concrete Steel Wire Strand from Ukraine: Final Affirmative Determination of Sales at Less Than Fair Value, and Final Negative Determination of Critical Circumstances, 86 FR 18498 (April 9, 2021).

These deposit requirements, when imposed, shall remain in effect until further notice.

Notification to Importers

This notice serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results of review in accordance with sections 751(a)(1) and 777(i)(l) of the Act and 19 CFR 351.221(b)(4).

Dated: June 30, 2023.
Lisa W. Wang,
Assistant Secretary for Enforcement and Compliance.

Appendix

List of Topics Discussed in the Preliminary Decision Memorandum

I. Summary

II. Background

III. Scope of the Order

IV. Successor-in-Interest Analysis

V. Bona Fide Sales Analysis

VI. Discussion of the Methodology

VII. Currency Conversion

VIII. Recommendation

[FR Doc. 2023-14984 Filed 7-13-23; 8:45 am]

BILLING CODE 3510-DS-P